DEPARTMENT OF THE INTERIOR

National Park Service

Notice of Inventory Completion: Illinois State Museum, Springfield, IL

AGENCY: National Park Service, Interior.

ACTION: Notice.

Notice is here given in accordance with the Native American Graves Protection and Repatriation Act (NAGPRA), 25 U.S.C. 3003, of the completion of an inventory of human remains in the possession of Illinois State Museum, Springfield, IL. The human remains were removed from Montana.

This notice is published as part of the National Park Service's administrative responsibilities under NAGPRA, 25 U.S.C. 3003 (d)(3). The determinations within this notice are the sole responsibility of the museum, institution, or Federal agency that has control of the Native American human remains. The National Park Service is not responsible for the determinations within this notice.

A detailed assessment of the human remains was made by Illinois State Museum professional staff in consultation with representatives of the Cheyenne-Arapaho Tribes of Oklahoma and the Northern Cheyenne Tribe of the Northern Cheyenne Indian Reservation, Montana.

In the late 1960s, human remains representing one individual were removed from an unspecified site in Montana by Dr. Ronald Gordon. The human remains were reportedly removed from a road embankment which cut through a known Indian cemetery. Markings believed to have been made by Dr. Gordon on the frontal bone of the skull read “Cheyenne ♀ Montana.” Prior to 1987, Dr. Gordon donated the human remains to the Dickson Mounds Museum, a branch of the Illinois State Museum. The accession card indicates that the remains are of a Cheyenne female. No known individual was identified. No associated funerary objects are present.

Review of the cranial morphology indicates that the individual is clearly Native American. The Cheyenne Indians are represented by two present-day Indian tribes, the Cheyenne-Arapaho Tribes of Oklahoma and the Northern Cheyenne Tribe of the Northern Cheyenne Indian Reservation, Montana.

Officials of the Illinois State Museum have determined that, pursuant to 25 U.S.C. 3001 (9-10), the human remains described above represent the physical remains of one individual of Native American ancestry. Officials of the Illinois State Museum also have determined that, pursuant to 25 U.S.C. 3001 (2), there is a relationship of shared group identity that can be reasonably traced between the Native American human remains and the Cheyenne-Arapaho Tribes of Oklahoma and the Northern Cheyenne Tribe of the Northern Cheyenne Indian Reservation, Montana.

Representatives of any other Indian tribe that believes itself to be culturally affiliated with the human remains should contact Dr. Robert E. Warren, Curator of Anthropology, Illinois State Museum, 1011 East Ash Street, Springfield, IL 62703-3535, telephone (217) 524-7903, before November 7, 2003. Repatriation of the human remains to the Cheyenne-Arapaho Tribes of Oklahoma and the Northern Cheyenne Tribe of the Northern Cheyenne Indian Reservation, Montana may proceed after that date if no additional claimants come forward.

The Illinois State Museum is responsible for notifying the Cheyenne-Arapaho Tribes of Oklahoma and the Northern Cheyenne Tribe of the Northern Cheyenne Indian Reservation, Montana that this notice has been published.

Dated: August 25, 2003.
John Robbins,
Assistant Director, Cultural Resources.

[FR Doc. 03-25541 Filed 10-7-03; 8:45 am]

BILLING CODE 4310-70-S